DEPARTMENT OF DEFENSE

Department of the Army; Corps of Engineers

Intent To Prepare a Draft Environmental Impact Statement for the Kissimmee Chain of Lakes Portion of the Kissimmee River Restoration Project

AGENCY: Department of the Army, U.S. Army Corps of Engineers, DoD.

ACTION: Notice of intent.

SUMMARY: The Jacksonville District, U.S. Army Corps of Engineers, intends to prepare a Draft Environmental Impact Statement (DEIS) for the Kissimmee Chain of Lakes (KCOL) portion of the Kissimmee River Restoration (KRR) project. This project involves the establishment of a coordinated schedule of water level drawdowns throughout the seventeen lakes comprising the Kissimmee Chain of Lakes (KCOL), for the ultimate purpose of facilitating environmental restoration throughout those water bodies. The local sponsor is the South Florida Water Management District.

FOR FURTHER INFORMATION CONTACT: Mr. Esteban Jimenez, 904-232-2115, Special Projects Section, Environmental Branch, Planning Division, P.O. Box 4970, Jacksonville, FL 32232-0019.

SUPPLEMENTARY INFORMATION: The authority to conduct this comprehensive analysis is granted under Section 206 of the 1996 Water Resources Development Act. The Kissimmee River Basin flood control works were authorized by the Rivers and Harbors Act of 1954 as an addition to the Central & South Florida Flood Control Project. The primary project purposes are restoration of natural flooding in the historic floodplain in order to reestablish wetland conditions while maintaining the existing protection against flood damages within the Kissimmee Basin, and to improve the environmental setting of the KCOL area.

The proposed action on the Kissimmee Chain of Lakes includes: Lake Hart, Lake Mary Jane, East Lake Tohopekaliga, Lake Myrtle, Lake Preston, Lake Conlin, Lake Tohopekaliga, Lake Gentry, Lake Russell, Cypress Lake, Lake Marion, Lake Hatchinehea, Lake Pierce, Lake Rosalie, Tiger Lake, Lake Jackson, Lake Marian, and Lake Weohykapka. The lakes are all located in the Upper Kissimmee River Upper Basin (KRUB), and covers both Osceola and Polk Counties in Florida.

The objective of the study is to evaluate the possibility of implementing revised regulation schedules for the Upper Kissimmee Chain of Lakes. This is so that common and coordinated regulation schedules can be enacted for the Chain of Lakes, in order to facilitate ecosystem restoration.

Flora and Fauna—The 35,000 acres of wetlands that existed in the Kissimmee River Flood Plain prior to canalization are estimated to have declined to about 14,000 acres in the existing condition. Existing conditions of flora and fauna in the KB are addressed below.

Total Existing Acreages of Wetland Habitats in the Kissimmee River Flood Plain
Type | Total | Percent
Wetland Forested:
Cypress | 262 | 1.9
Wetland Prairie:
Rhynchospora | 1005 | 7.2
Aquatic Grass | 2359 | 16.8
Maidencane | 2743 | 19.5
Wetland Shrub:
Buttonbrush | 803 | 5.7
Primrose Willow | 693 | 4.9
Willow | 1639 | 11.7
Broadleaf | 3447 | 24.4
Switchgrass | 471 | 3.4
Tussock | 630 | 4.5
Total | 14052 | 100

The lakes are generally surrounded by pine flatwoods, dry and wet prairies, and cypress domes.

Wildlife in the Kissimmee River Lower Basin (KRLB) consists of deer, small mammals, alligators and small reptiles, amphibians, invertebrates, wading birds, and ducks. Because of the large expanse of area involved, the following Federally-listed threatened or endangered species could occur in both the KRUB and KRLB: Bald eagle, snail kite, indigo snake, Audubon's crested caracara, wood stork, and grasshopper sparrow.

Endangered and threatened species in the KB include:

—Endangered: Bald eagle, snail kite, wood stork, whooping crane, and Audubon's crested caracara, and Florida grasshopper sparrow.

—Threatened: Indigo snake.

—State listed as threatened species: Sandhill crane.

—Species of special concern: American alligator, snowy egret, gopher tortoise, osprey, burrowing owl, limpkin, little blue heron, least tern, and tricolored heron.

Fluctuating water levels of the lake littoral zones are important for over wintering waterfowl that utilize these lakes during migrational periods. Wading birds use the littoral zone as an important feeding habitat.

Alternatives: The various scheduling alternatives will be developed upon modeling based on the determination of the existing environment and the goals to be attained. The no action alternative will be considered.

Issues: The proposed action is to modify the regulation schedules for the Upper Kissimmee Chain of Lakes, to include periodic extreme low water stages for the purposes of enhancing the lake's environmental resources and improving the physical and chemical characteristics of these lakes. This habitat enhancement technique involves lowering lakes to consolidate bottom sediments and expand desirable aquatic plant communities. The extreme drawdown of these areas mimic low water conditions prior to flood control (activities which result in more stable water levels than would occur naturally). Low water levels historically occurred about every seven to ten years. The drawdown will be coordinated with the South Florida Water Management District (SFWMD).

Habitat enhancement activities would be carried out by the Florida Fish and Wildlife Conservation commission (FWC) or other acting under it. The FWC would obtain all necessary permits.

Enhancement activities may include muck removal, burning, discing and herbicide application to reduce dense vegetation, tussock formation and organic build-up on lake bottoms.

Scoping: Scoping public and agency comments on this work will begin June 2005 by means of a scoping letter. In addition, all parties are invited to participate in the scoping process by identifying any addition concerns on issues, studies needed, alternatives, procedures, and other matters related to the scoping process. At this time, there are no plans for a public scoping meeting.

Public Involvement: We invite the participation of affected Federal, state, and local agencies, affected Indian tribes, and other interested private organizations and parties.

Coordination: The proposed action is being coordinated with the Fish and Wildlife Service (FWS) under Section 7 of the Endangered Species Act, and the Fish and Wildlife Coordination Act, and with the State Historic preservation Officer.

Other Environmental Review and Consultation: The proposed action would involve evaluation for compliance with guidelines pursuant to section 404(b) of the Clean Water Act; application to the State of Florida for Water Quality Certification pursuant to section 401 of the Clean Water Act; and certification of state islands, easements, and rights of way.

Agency Role: As non-Federal sponsor and leading local expert; the South Florida Water Management District (SFWMD) will provide extensive information and assistance on the resources to be impacted, mitigation measures, and alternatives.

DEIS Preparation: It is estimated that the DEIS will be available to the public on or about November 2006.

Dated: May 10, 2005.
Dennis W. Barnett,
Acting Chief, Planning Division.

[FR Doc. 05-9996 Filed 5-18-05; 8:45 am]

BILLING CODE 3710-A5-M